NATIONAL SCIENCE FOUNDATION

Notice of Permit Applications Received Under the Antarctic Conservation Act of 1978

AGENCY: National Science Foundation.

ACTION: Notice of Permit Applications Received Under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 7, 2011. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant: Permit Application ASPA 2012-005, George Watters, Director, U.S. AMLR Program, Southwest Fisheries Science Center, NOAA, 8604 La Jolla Shores Drive, La Jolla, CA 92037.

Activity for Which Permit is Requested: Take, Enter an Antarctic Specially Protected Area, and Import into the USA. The applicant plans to census, photo, capture/restrain, measure, weigh, tag, instrument (TDR, VHF, GLS, GPS, PTT, and/or PIT), anesthesia, sample collection (blood, hair, nail, fecal, skin biopsy, vibrissae, tooth, milk, scat, and IV/IM injections (including DLW) up to 200 adult/juvenile and 600 pup Antarctic fur seals, 50 adult/juvenile Leopard seals, 50 adult/juvenile and 100 pup Southern elephant seals, and 30 adult/juvenile and 20 pup Weddell seals as part of a long-term ecosystem monitoring program established in 1986 studying the foraging ecology, population dynamics, census and reproductive success and energetic of Antarctic seals.

In addition, the applicant will continue studies of the behavioral ecology and population biology of the Adelie, Gentoo and Chinstrap penguins, and interactions among these species and their principal avian predators (skuas, gulls, sheathbills and giant petrels). Up to 2000 Chinstraps, 1500 Adelie, 2700 Gentoo penguins, 250 Brown skua, 350 South polar skua, 600 Giant petrel, 100 Kelp gulls, 150 Blue-eyed shag, 20 Snowy sheathbills, and 200 Cape Petrels will be banded, measured, eggs collected, blood sampled, fecal and feathers sampled. After sample collection, all birds will be released.

Location:

ASPA 149, Cape Shirreff and San Telmo Island,

ASPA 128, Western Shore of Admiralty Bay,

ASPA 151, Lions Rump, Antarctic Peninsula region,

ASPA 108, Green Island, Berthelot Islands, Antarctic Peninsula,

ASPA 112, Coppermine Peninsula, Robert Island,

ASPA 113, Litchfield Island, Arthur Harbor, Palmer Archipelago,

ASPA 125, Fildes Peninsula, King George Island, South Shetland Islands,

ASPA 126, Byers Peninsula, Livingston Island, South Shetland Islands,

ASPA 128, Western Shore of Admiralty Bay, King George Island,

ASPA 132, Potter Peninsula, King George Island, South Shetland Islands,

ASPA 133, Harmony Point, Nelson Island, South Shetland Island,

ASPA 134, Cierva Point offshore islands, Danco Coast, Antarctic Peninsula,

ASPA 139, Biscoe Point, Anvers Island,

ASPA 140, Shores of Port Foster, Deception Island, South Shetland Islands,

ASPA 144, Chile Bay (Discovery Bay),

ASPA 145, Port Foster, Deception Island, South Shetland Islands,

ASPA 146, South Bay, Doumer Island, Palmer Archipelago,

ASPA 148, Mount Flora, Hope Bay, Antarctic Peninsula,

ASPA 149, Cape Shirreff, Livingston Island, South Shetland Islands,

ASPA 150, Ardley Island, Maxwell Bay, King George Island, South Shetland Islands,

ASPA 151, Lions Rump, King George Island, South Shetland Islands,

ASPA 152, Western Bransfield Strait, Antarctic Peninsula,

ASPA 153, East Dallmann Bay, Antarctic Peninsula,

ASPA 171, Narebski Point, Barton Peninsula, King George Island.

Dates: October 1, 2011 to July 30, 2016.

Nadene G. Kennedy,
Permit Officer, Office of Polar Programs.

[FR Doc. 2011-19966 Filed 8-5-11; 8:45 am]

BILLING CODE 7555-01-P